DEPARTMENT OF THE INTERIOR

Fish and Wildlife Service

[FWSR8-2008-N0148; 1120-0008-0221-F2]

Incidental Take Permit for the Regency Centers Project in the City of Highland, San Bernardino County, CA

AGENCY: Fish and Wildlife Service, Interior.

ACTION: Notice of availability and receipt of application.

SUMMARY: Regency Centers (Applicant) has applied to the Fish and Wildlife Service (Service) for an incidental take permit pursuant to section 10(a)(1)(B) of the Endangered Species Act (Act) of 1973, as amended. The Service is considering issuing a 3-year permit to the Applicant that would authorize take of the federally endangered San Bernardino kangaroo rat (Dipodomys Merriami parvus; “SBKR”). The proposed permit would authorize the take of an individual SBKR. The Applicant needs the permit because take of SBKR could occur during the proposed construction of a commercial development on an 8.4-acre site in the City of Highland, San Bernardino County, California. The permit application includes the proposed Habitat Conservation Plan (Plan), which describes the proposed action and the measures that the Applicant would undertake to minimize and mitigate take of the SBKR.

DATES: Submit written comments on or before September 12, 2008.

ADDRESSES: Send written comments to Mr. Jim Bartel, Field Supervisor, Fish and Wildlife Service, 6010 Hidden Valley Road, Carlsbad, California 92011. You also may send comments by facsimile to (760) 918-0638.

FOR FURTHER INFORMATION CONTACT: Ms. Karen Goebel, Assistant Field Supervisor [see ADDRESSES] or call (760) 431-9440.

SUPPLEMENTARY INFORMATION:

Availability of Documents

You may obtain copies of these documents for review by contacting the above office. Documents also will be available for public inspection, by appointment, during normal business hours at the above address and at the San Bernardino County Libraries. Addresses for the San Bernardino County Libraries are: (1) 27167 Base Line, Highland, CA 92346; (2) 25581 Barton Rd, Loma Linda, CA 92354; (3) 1870 Mentone Boulevard, Mentone, CA 92359; and (4) 104 West Fourth Street, San Bernardino, CA 92415.

Background

Section 9 of the Act and Federal regulations prohibit the “take” of fish and wildlife species listed as endangered or threatened. Take of federally listed fish and wildlife is defined under the Act to include “harass, harm, pursue, hunt, shoot, wound, kill, trap, capture, or collect, or to attempt to engage in any such conduct.” The Service may, under limited circumstances, issue permits to authorize incidental take (i.e., take that is incidental to, and not the purpose of, the carrying out of an otherwise lawful activity). Regulations governing incidental take permits for threatened and endangered species are found in 50 CFR 17.32 and 17.22.

The Applicant is proposing development of commercial facilities on an 8.4-acre site. The site is located southeast of the intersection of State Route 30 and Fifth Street (State Route 330) in the City of Highland, San Bernardino County, California. The proposed project site is bordered on the west by vacant land that has been permitted for construction of commercial facilities, on the north by 5th Street, on the east by vacant land and a public storage facility, and on the south by a berm separating the site from the Plunge Creek flood control basins, aggregate operations, and the Santa Ana Wash.

Based on focused surveys and habitat assessments, 4.5 acres of the site are considered occupied by the SBKR. The Service has determined that the proposed development would result in incidental take of the SBKR. No other federally listed species are known to occupy the site.

To mitigate take of SBKR on the project site, the Applicant has purchased credits towards conservation in-perpetuity of thirteen (13) acres of conservation credits from the Cajon Creek Conservation Bank in eastern San Bernardino Valley. The conservation bank collects fees that fund a management endowment to ensure the permanent management and monitoring of sensitive species and habitats, including the SBKR.

National Environmental Policy Act

Proposed permit issuance triggers the need for compliance with the National Environmental Policy Act (NEPA). Accordingly, a draft NEPA document has been prepared. The Service is the Lead Agency responsible for compliance under NEPA. As NEPA lead agency, the Service is providing notice of the availability and is making available for public review the Environmental Assessment.

The Service's Environmental Assessment considers the environmental consequences of three alternatives, including: (1) The Proposed Project Alternative, which consists of issuance of the incidental take permit and implementation of the Plan; (2) the Alternate Site Layout Alternative, which consists of a reduced project footprint and conservation of SBKR within the proposed project site; and (3) the No Action Alternative, which would result in no impacts to SBKR and no conservation.

Public Review

The Service invites the public to review the Plan and Environmental Assessment during a 60-day public comment period (see DATES). Before including your address, phone number, e-mail address, or other personal identifying information in your comment, you should be aware that your entire comment—including your personal identifying information—may be made publicly available at any time. While you can ask us in your comment to withhold your personal identifying information from public review, we cannot guarantee that we will be able to do so.

This notice is provided pursuant to section 10(a) of the Act and the regulations for implementing NEPA, as amended (40 CFR 1506.6). We will evaluate the application, associated documents, and comments submitted thereon to determine whether the application meets the requirements of NEPA regulations and section 10(a) of the Act. If we determine that those requirements are met, we will issue a permit to the Applicant for the incidental take of the SBKR. We will make our final permit decision no sooner than 60 days from the date of this notice.

Dated: July 8, 2008.
Richard F. Kearney,
Acting Deputy Regional Director, California and Nevada Region, Sacramento, California.

[FR Doc. E8-16040 Filed 7-11-08; 8:45 am]

BILLING CODE 4310-55-P